DEPARTMENT OF COMMERCE

National Institute of Standards and Technology

Advanced Technology Program

ACTION: Proposed collection; comment request.

SUMMARY: The Department of Commerce (DOC), as part of its continuing effort to reduce paperwork respondent burden, invites the general public and other Federal agencies to comment on the continuing and proposed information collection, as required by the Paperwork Reduction Act of 1995, Public Law 104-13 (44 U.S.C. 3506(c)(2)(A)).

DATES: Written comments must be submitted on or before June 12, 2000.

ADDRESSES: Direct all written comments to Linda Engelmeier, Departmental Clearance Officer, Department of Commerce, Room 5033, 14th and Constitution Avenue, N.W., Washington, D.C. 20230 or via the Internet (LEngelme@doc.gov).

FOR FURTHER INFORMATION CONTACT: Requests for additional information should be directed to Barbara Lambis, Senior Policy and Operations Advisor, Advanced Technology Program, National Institute of Standards and Technology, 100 Bureau Drive, Stop 4700, Room 333, Administration Building, Gaithersburg, MD 20899-4700 or via the Internet (Barbara.Lambis@nist.gov).

SUPPLEMENTARY INFORMATION:

I. Abstract

The Advanced Technology Program (ATP) is administered by the National Institute of Standards and Technology (NIST). ATP is a competitive, cost-sharing program designed for the federal government to work in partnership with industry to foster the development and broad dissemination of challenging, high-risk technologies that offer the potential for significant, broad-based economic benefits for the nation. This program provides multi-year funding through the use of cooperative agreements to single companies and to industry-led joint ventures. To receive ATP financial assistance, ATP solicits proposals from U.S. businesses and industry-led joint ventures consisting of U.S. businesses, universities, governmental laboratories, and non-profit independent research organizations. The information provided through the proposal process is used to make funding decisions, and once funded, reports are required to monitor the progress of projects. Awardees may also be requested to participate in special economic studies.

II. Method of Collection

The proposal information is submitted in writing. The monitoring/case studies' reports are provided by various means, including in writing, orally (by telephone and during site visits), and electronically.

III. Data

OMB Number: 0693-0009.

Agency Form Number(s): NIST 1262 and NIST-1263.

Type of Review: Revision and extension for a currently approved collection.

Affected Public: Businesses or other for-profit organizations.

Estimated Number of Respondents: 925 annually.

Estimated Time Per Response: 20-30 hours for proposals and 1-3 hours for monitoring/case studies' reports.

Estimated Total Annual Burden Hours: 16,275.

Estimated Total Annual Cost: $0 (no capital expenditures required).

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they will also become a matter of public record.

Dated: April 5, 2000.
Linda Engelmeier,
Departmental Forms Clearance Officer, Office of the Chief Information Officer.

[FR Doc. 00-9053 Filed 4-11-00; 8:45 am]

BILLING CODE 3510-13-P